DEPARTMENT OF TRANSPORTATION

Federal Aviation Administration

14 CFR Part 73

[Docket No. FAA-2025-2760; Airspace Docket No. 25-ASW-6]

RIN 2120-AA66

Renaming of Restricted Areas R-6302A, R-6302B, R-6302C, R-6302D, and R-6302E; Fort Cavazos, TX

AGENCY: Federal Aviation Administration (FAA), DOT.

ACTION: Final rule.

SUMMARY: This action is an administrative change to rename restricted areas R-6302A, R-6302B, R-6302C, R-6302D, and R-6302E; Fort Cavazos, TX, and to update the using agency description to reflect the change. This action does not alter airspace boundaries or impose additional operating requirements on users of the affected airspace.

DATES: Effective date 0901 UTC, January 22, 2026.

ADDRESSES: A copy of this final rule and all background material may be viewed online at www.regulations.gov using the FAA Docket number. Electronic retrieval help and guidelines are available on the website. It is available 24 hours each day, 365 days each year. An electronic copy of this document may also be downloaded from www.federalregister.gov.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the airspace descriptions of restricted areas R-6302A, R-6302B, R-6302C, R-6302D, and R-6302E; Fort Cavazos, TX.

History

On June 11, 2025, the Secretary of the Army directed the U.S. Army to change the name of “Fort Cavazos, TX” by redesignating it as, “Fort Hood, TX.” Consequently, this rulemaking action implements the requisite changes to part 73 by updating the airspace descriptions of restricted areas R-6302A, R-6302B, R-6302C, R-6302D, and R-6302E to reflect the new name.

The Rule

This action amends 14 CFR part 73 by updating the airspace titles and using agency descriptions for restricted areas R-6302A, R-6302B, R-6302C, R-6302D, and R-6302E by removing the name “Fort Cavazos, TX” and replacing it with “Fort Hood, TX.” The using agency for all five restricted areas is changed to the “U.S. Army, Commanding General, III Armored Corps and Fort Hood, Fort Hood, TX.”

Good Cause for Bypassing Notice and Comment

Under 5 U.S.C. 553, federal agencies engaged in informal rulemaking must provide the public with a notice of proposed rulemaking and an opportunity for public participation. However, 5 U.S.C. 553(b)(B) exempts a rule from these requirements “when the agency for good cause finds (and incorporates the finding and a brief statement of reasons therefor in the rules issued) that notice and public procedure thereon are impracticable, unnecessary, or contrary to the public interest.” Courts have construed these exceptions narrowly, but have nonetheless accepted determinations of good cause that notice and comment is unnecessary in “those situations in which the administrative rule is a routine determination, insignificant in nature and impact, and inconsequential to the industry and to the public.” See Mack Trucks, Inc. v. EPA, 682 F.3d 87, 94 (D.C. Cir. 2012). This action consists of administrative name changes and minor technical amendments only. It does not affect the boundaries, altitudes, time of designation, operating requirements, or activities conducted in the restricted areas. Therefore, FAA has determined that good cause exists to find that notice and public procedure under 5 U.S.C. 553(b) are unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative name changes to the geographic location and using agency information of restricted areas R-6302A, R-6302B, R-6302C, R-6302D, and R-6302E qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); and paragraph B-2.5(d)—Modification of the technical description of special use airspace (SUA) that does not alter the dimensions, altitudes, or times of designation of the airspace (such as changes in designation of the controlling or using agency, or correction of typographical errors). As such, this action is not expected to result in any potentially significant environmental impacts. In accordance with the FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p.389.

§ 73.63 Texas (TX) [Amended]

2. Section 73.63 is amended as follows:

* * * * *

R-6302A Fort Cavazos, TX [Removed]

R-6302B Fort Cavazos, TX [Removed]

R-6302C Fort Cavazos, TX [Removed]

R-6302D Fort Cavazos, TX [Removed]

R-6302E Fort Cavazos, TX [Removed]

R-6302A Fort Hood, TX [New]

Boundaries. Beginning at lat. 31°09′01″ N, long. 97°45′01″ W; to lat. 31°10′01″ N, long. 97°48′01″ W; to lat. 31°14′15″ N, long. 97°50′33″ W; to lat. 31°18′25″ N, long. 97°48′48″ W; to lat. 31°18′23″ N, long. 97°45′43″ W; to lat. 31°20′00″ N, long. 97°45′23″ W; to lat. 31°22′09″ N, long. 97°43′27″ W; to lat. 31°22′08″ N, long. 97°41′56″ W; to lat. 31°21′01″ N, long. 97°41′01″ W; to lat. 31°20′01″ N, long. 97°41′01″ W; to lat. 31°14′01″ N, long. 97°33′01″ W; to lat. 31°08′01″ N, long. 97°37′01″ W; to lat. 31°08′01″ N, long. 97°39′01″ W; to lat. 31°10′01″ N, long. 97°41′01″ W; to lat. 31°09′01″ N, long. 97°43′31″ W; to the point of beginning.

Designated altitudes. Surface to, but not including 30,000 feet MSL.

Time of designation. Continuous.

Controlling agency. FAA, Houston ARTCC.

Using agency. U.S. Army, Commanding General, III Armored Corps and Fort Hood, Fort Hood, TX.

R-6302B Fort Hood, TX [New]

Boundaries. Beginning at lat. 31°14′01″ N, long. 97°33′01″ W; to lat. 31°06′01″ N, long. 97°33′01″ W; to lat. 31°08′01″ N, long. 97°39′01″ W; to lat. 31°08′01″ N, long. 97°37′01″ W; to the point of beginning.

Designated altitudes. Surface to 11,000 feet MSL.

Time of designation. 1800-0600 local time, Monday-Saturday; other times by NOTAM.

Controlling agency. FAA, Houston ARTCC.

Using agency. U.S. Army, Commanding General, III Armored Corps and Fort Hood, Fort Hood, TX.

R-6302C Fort Hood, TX [New]

Boundaries. Beginning at lat. 31°09′01″ N, long. 97°45′01″ W; to lat. 31°09′01″ N, long. 97°55′01″ W; to lat. 31°16′01″ N, long. 97°54′01″ W; to lat. 31°19′01″ N, long. 97°51′01″ W; to lat. 31°18′25″ N, long. 97°48′48″ W; to lat. 31°14′15″ N, long. 97°50′33″ W; to lat. 31°10′01″ N, long. 97°48′01″ W; to the point of the beginning.

Designated altitudes. Surface to, but not including 30,000 feet MSL.

Time of designation. 0700-1900 local time, Monday-Friday; other times by NOTAM.

Controlling agency. FAA, Houston ARTCC.

Using agency. U.S. Army, Commanding General, III Armored Corps and Fort Hood, Fort Hood, TX.

R-6302D Fort Hood, TX [New]

Boundaries. Beginning at lat. 31°18′25″ N, long. 97°48′48″ W; to lat. 31°19′01″ N, long. 97°51′01″ W; to lat. 31°24′01″ N, long. 97°48′01″ W; to lat. 31°23′01″ N, long. 97°43′01″ W; to lat. 31°22′08″ N, long. 97°41′56″ W; to lat. 31°22′09″ N, long. 97°43′27″ W; to lat. 31°20′00″ N, long. 97°45′23″ W; to lat. 31°18′23″ N, long. 97°45′43″ W; to the point of the beginning.

Designated altitudes. Surface to, but not including 30,000 feet MSL.

Time of designation. 0700-1900 local time, Monday-Friday; other times by NOTAM.

Controlling agency. FAA, Houston ARTCC.

Using agency. U.S. Army, Commanding General, III Armored Corps and Fort Hood, Fort Hood, TX.

R-6302E Fort Hood, TX [New]

Boundaries. Beginning at lat. 31°22′08″ N, long. 97°41′56″ W; to lat. 31°21′01″ N, long. 97°41′01″ W; to lat. 31°20′01″ N, long. 97°41′01″ W; to lat. 31°14′01″ N, long. 97°33′01″ W; to lat. 31°08′01″ N, long. 97°39′01″ W; to lat. 31°10′01″ N, long. 97°41′01″ W; to lat. 31°09′01″ N, long. 97°43′31″ W; to lat. 31°09′01″ N, long. 97°45′01″ W; to lat. 31°10′01″ N, long. 97°48′01″ W; to lat. 31°14′15″ N, long. 97°50′33″ W; to lat. 31°18′25″ N, long. 97°48′48″ W; to lat. 31°18′23″ N, long. 97°45′43″ W; to lat. 31°20′00″ N, long. 97°45′23″ W; to lat. 31°22′09″ N, long. 97°43′27″ W; to the point of beginning.

Designated altitudes. 30,000 feet MSL to 45,000 feet MSL.

Times of designation. By NOTAM 48 hours in advance.

Controlling agency. FAA, Houston ARTCC.

Using agency. U.S. Army, Commanding General, III Armored Corps and Fort Hood, Fort Hood, TX.

* * * * *

Issued in Washington, DC, on November 13, 2025.
Alex W. Nelson,
Acting Manager, Rules and Regulations Group.

[FR Doc. 2025-20000 Filed 11-14-25; 8:45 am]

BILLING CODE 4910-13-P